FEDERAL COMMUNICATIONS COMMISSION

47 CFR Part 54

[WC Docket No. 17-310; Report No. 3136; FRS 16305]

Petitions for Reconsideration of Action in Proceeding

AGENCY: Federal Communications Commission.

ACTION: Petition for Reconsideration.

SUMMARY: Petitions for Reconsideration (Petitions) have been filed in the Commission's proceeding listed below by Jeffrey A. Mitchell, on behalf of SHLB Coalition, Michael J. Dunleavy, on behalf of State of Alaska, B. Lynn Follansbee, on behalf of USTelecom—The Broadband Association, Leonard A. Steinberg, on behalf of Alaska Communications, David J. Kirby, on behalf of North Carolina Telehealth Network Association and Southern Ohio Health Care Network.

DATES: Oppositions to the Petitions must be filed on or before January 3, 2020. Replies to an opposition must be filed on or before January 13, 2020.

ADDRESSES: Federal Communications Commission, 445 12th Street SW, Washington, DC 20554.

FOR FURTHER INFORMATION CONTACT: William Layton, Wireline Competition Bureau, Telecommunications Access Policy Division, (202) 418-0868.

SUPPLEMENTARY INFORMATION: This is a summary of the Commission's document, Report No. 3136, released December 05, 2019. The full text of the Petitions are available for viewing and copying at the FCC Reference Information Center, 445 12th Street SW, Room CY-A257, Washington, DC 20554. Petitions also may be accessed online via the Commission's Electronic Comment Filing System at: http://apps.fcc.gov/ecfs/. The Commission will not send a Congressional Review Act (CRA) submission to Congress or the Government Accountability Office pursuant to the CRA, 5.U.S.C. because no rules are being adopted by the Commission.

Subject: Promoting Telehealth in Rural America, FCC 19-78, published at 84 FR 54952, October 11, 2019, in WT Docket No. 17-310.

Number of Petitions Filed: 5.

Federal Communications Commission.
Marlene Dortch,
Secretary, Office of the Secretary.

[FR Doc. 2019-27387 Filed 12-18-19; 8:45 am]

BILLING CODE 6712-01-P